DEPARTMENT OF TRANSPORTATION

Federal Aviation Administration

[Docket No. FAA-2010]

Passenger Facility Charge Database System for Air Carrier Reporting

AGENCY: Federal Aviation Administration (FAA), Department of Transportation (DOT).

ACTION: Notice of availability.

SUMMARY: The Federal Aviation Administration (FAA) is issuing this Notice of Availability to inform interested parties of the availability of the Passenger Facility Charge (PFC) database system to report PFC quarterly report information. In accordance with 14 CFR part 158.63, the public agency approved to collect PFCs must provide quarterly PFC reports to air carriers collecting PFCs for the public agency and the FAA. In accordance with § 158.65, each air carrier collecting PFCs for a public agency must provide quarterly reports to the public agency unless otherwise agreed to by the collecting air carrier and the public agency. The FAA has developed a national PFC database system in order to more easily track the PFC program on a nationwide basis. The PFC database system was developed in three phases. The first phase was a national internal database for FAA use. The second phase expanded the database to allow public agencies to enter and access the PFC quarterly reports for their airport(s). The third phase expands the system to provide database access to the air carriers. The first and second phases of the database are complete. The third phase will allow air carriers to enter PFC collection and remittance information directly into the PFC database on a monthly basis. Use of the PFC database is voluntary and is not the sole means of complying with sections 158.63 and 158.65. However, as stated in 158.20(b), once the air carriers have access to the FAA's PFC database system, those air carriers and public agencies participating in the system will no longer be required to transmit quarterly reports to any interested party.

DATES: The system will be fully available to all users (FAA, public agencies, and air carriers) on June 21, 2010.

FOR FURTHER INFORMATION CONTACT: Jane Johnson, Financial Analysis and Passenger Facility Charge Branch (APP-510), Room 619, Federal Aviation Administration, 800 Independence Avenue, SW., Washington, DC 20591; telephone: (202) 267-5878, e-mail: 9-AWA-ARP-APP-PFC-Info@FAA.GOV.

SUPPLEMENTARY INFORMATION: The PFC program is codified in Title 49 United States Code (U.S.C.) § 40117 and is implemented by 14 CFR part 158. The PFC program provides an important and independent source of financing for the needs of U.S. commercial service airports through an airport enplanement charge per passenger of $1, $2, $3, $4, or $4.50 per trip segment up to a maximum of two segments on a one-way trip and four segments on a round trip. Air carriers collect and remit the PFC fees directly to an eligible public agency authorized by the FAA in accordance with statutory and regulatory requirements to impose a PFC at a commercial service airport(s) it controls.

Under part 158, public agencies controlling commercial service airports can apply to the FAA for authority to impose and/or use a PFC to finance approved, eligible airport related projects. Section 158.3 defines a public agency to be a state or any agency or one or more states: a municipality or other political subdivision of a state; an authority created by Federal, State, or local law; a tax-supported organization; or an Indian tribe or pueblo that controls a commercial service airport. A private entity controlling an airport participating in the Pilot Program for Private Ownership of Airports (49 U.S.C. 47134) may also apply to impose and use a PFC.

The FAA must issue a final decision approving or disapproving a PFC application, in whole or in part. Following the FAA's full or partial approval of an application to impose a PFC, the public agency must notify air carriers and foreign air carriers required to collect PFCs at its airport(s) of the FAA's approval, including the approved PFC level and dates of collection. Air carriers collect PFCs from their passengers in accordance with 158.45 or 158.47. Air carriers collecting PFCs are required by section 158.51 to remit the PFC revenue collected, less a prescribed handling fee, to the appropriate public agency on a monthly basis.

Beginning in the year that PFC revenues are first collected by air carriers on behalf of a public agency, such public agencies approved for PFC collection are required by section 158.63 to provide quarterly reports to air carriers collecting PFC revenue for the public agency and the FAA.

The quarterly report is designed to provide the air carriers and the FAA with sufficient information for oversight of PFC revenue. The public agency quarterly report must be provided on or before the last day of the calendar quarter or other period agreed to by the collecting carrier and public agency for which funds were collected.

Similarly, each air carrier collecting PFCs for a public agency must file quarterly reports to the public agency, unless otherwise agreed to by the collecting air carrier and public agency. The air carrier's quarterly report provides an accounting of funds collected and funds remitted to each public agency.

The air carrier's quarterly report is required to be filed on or before the last day of the calendar month following the calendar quarter, or other period as agreed to by the collecting carrier and public agency for which funds were collected.

The FAA's PFC database has been designed to facilitate electronic filing and retrieval of the public agencies' and the air carriers' quarterly reports. This will allow both user groups timely access to the other party's reports and will facilitate standardized record keeping.

The PFC database has been designed with two methods for air carriers to enter their quarterly report information. The first method is a manual data entry wherein the air carrier will select each airport and inputs each data element. The second method is an upload of the quarterly information into the database via a pre-established format through an .xml interface.

Public agencies may enter PFC remittance information into the database by either manual data entry or upload via a pre-established format through an .xml interface. The public agency data entry for projects is limited to manual entry wherein the public agency selects each appropriate project and inputs the data for that project.

The FAA notes that approximately 93 percent of the public agencies approved to collect PFC participate in the PFC database system. Those public agencies and air carriers choosing to use the database will no longer be required to distribute their quarterly reports to any interested party in any other way beginning June 21, 2010.

Issued in Washington, DC, on March 25, 2010.
Frank San Martin,
Manager, Airports Financial Assistance Division.

[FR Doc. 2010-8124 Filed 4-8-10; 8:45 am]

BILLING CODE 4910-13-M